DEPARTMENT OF THE INTERIOR

Bureau of Reclamation

Quarterly Status Report of Water Service, Repayment, and Other Water-Related Contract Negotiations

AGENCY: Bureau of Reclamation, Interior.

ACTION: Notice.

SUMMARY: Notice is hereby given of proposed contractual actions that are new, modified, discontinued, or completed since the last publication of this notice on March 5, 2001. The March 5, 2001, notice should be used as a reference point to identify changes. This notice is one of a variety of means used to inform the public about proposed contractual actions for capital recovery and management of project resources and facilities. Additional Bureau of Reclamation (Reclamation) announcements of individual contract actions may be published in the Federal Register and in newspapers of general circulation in the areas determined by Reclamation to be affected by the proposed action. Announcements may be in the form of news releases, legal notices, official letters, memorandums, or other forms of written material. Meetings, workshops, and/or hearings may also be used, as appropriate, to provide local publicity. The public participation procedures do not apply to proposed contracts for sale of surplus or interim irrigation water for a term of 1 year or less. Either of the contracting parties may invite the public to observe contract proceedings. All public participation procedures will be coordinated with those involved in complying with the National Environmental Policy Act.

ADDRESSES: The identity of the approving officer and other information pertaining to a specific contract proposal may be obtained by calling or writing the appropriate regional office at the address and telephone number given for each region in the supplementary information.

FOR FURTHER INFORMATION CONTACT: Sandra L. Simons, Manager, Water Contracts and Repayment Office, Bureau of Reclamation, PO Box 25007, Denver, Colorado 80225-0007; telephone 303-445-2902.

SUPPLEMENTARY INFORMATION: Pursuant to section 226 of the Reclamation Reform Act of 1982 (96 Stat. 1273) and 43 CFR 426.20 of the rules and regulations published in 52 FR 11954, Apr. 13, 1987, Reclamation will publish notice of the proposed or amendatory contract actions for any contract for the delivery of project water for authorized uses in newspapers of general circulation in the affected area at least 60 days prior to contract execution. Pursuant to the “Final Revised Public Participation Procedures” for water resource-related contract negotiations, published in 47 FR 7763, Feb. 22, 1982, a tabulation is provided of all proposed contractual actions in each of the five Reclamation regions. Each proposed action is, or is expected to be, in some stage of the contract negotiation process in 2001. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act (80 Stat. 383), as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to: (I) The significance of the modification, and (ii) the degree of public interest which has been expressed over the course of the negotiations. As a minimum, the regional director shall furnish revised contracts to all parties who requested the contract in response to the initial public notice.

Acronym Definitions Used Herein

BON—Basis of Negotiation

BCP—Boulder Canyon Project

Reclamation—Bureau of Reclamation

CAP—Central Arizona Project

CUP—Central Utah Project

CVP—Central Valley Project

CRSP—Colorado River Storage Project

D&MC—Drainage and Minor Construction

FR—Federal Register

IDD—Irrigation and Drainage District

ID—Irrigation District

M&I—Municipal and Industrial

NEPA—National Environmental Policy Act

O&M—Operation and Maintenance

P-SMBP—Pick-Sloan Missouri Basin Program

PPR—Present Perfected Right

RRA—Reclamation Reform Act

R&B—Rehabilitation and Betterment

SOD—Safety of Dams

SRPA—Small Reclamation Projects Act

WCUA—Water Conservation and Utilization Act

WD—Water District

Pacific Northwest Region: Bureau of Reclamation, 1150 North Curtis Road, Suite 100, Boise, Idaho 83706-1234, telephone 208-378-5346.

New contract action:

20. Twenty-two irrigation districts of the Storage Division, Yakima Project, Washington: Repayment agreements for the reimbursable cost of SOD modifications to Keechelus Dam.

Discontinued contract action:

19. Tualatin Valley ID, Tualatin Project, Oregon: Amendatory contract to allow for the addition of 419.5 acres and appropriate District obligation adjustments. District no longer want to pursue an amendatory contract.

Mid-Pacific Region: Bureau of Reclamation, 2800 Cottage Way, Sacramento, California 95825-1898, telephone 916-978-5250.

New contract action:

48. Sierra Pacific Power Company, Town of Fernley, State of California, City of Reno, City of Sparks, Washoe County, State of Nevada, Truckee-Carson ID, and any other local interest or Native American Tribal Interest, who may have negotiated rights under Public Law 101-618; Nevada and California: Contract for the storage of non-Federal water in Truckee River reservoirs as authorized by Public Law 101-618 and the Preliminary Settlement Agreement. The contracts shall be consistent with the Truckee River Water Quality Settlement Agreement and the terms and conditions of the proposed Truckee River Operating Agreement.

Modified contract actions:

2. Contractors from the American River Division, Cross Valley Canal, Delta Division, Sacramento River Division, San Felipe Division, Shasta Division, Trinity River Division, and West San Joaquin Division, CVP, California: Early renewal of existing long-term contracts; long-term renewal of the interim renewal water service contracts expiring in 2002; water quantities for these contracts total in excess of 3.4M acre-feet. These contract actions will be accomplished through long-term renewal contracts pursuant to Public Law 102-575. Prior to completion of negotiation of long-term renewal contracts, existing interim renewal water service contracts may be renewed through successive interim renewal of contracts.

40. Clear Creek Community Services District, CVP, California: Contract to transfer title to the distribution system to the District.

42. Foresthill Public Utility District, CVP, California: Title transfer agreement for conveyance of CVP facilities. This agreement will allow transfer of title for Sugarpine Dam and appurtenant facilities from the CVP to Foresthill Public Utility District.

43. Carpinteria WD, Cachuma Project, California: Contract to transfer title to Carpinteria distribution system to the District. Title transfer subject to Congressional ratification.

44. Montecito WD, Cachuma Project, California: Contract to transfer title to Monticito distribution system to the District. Title transfer subject to Congressional ratification.

45. Delano-Earlimart, Exeter, Ivanhoe, Lindmore, Lindsay-Strathmore, Madera, Shafter Wasco, and Stone Corral IDs; South San Joaquin Municipal Utilities District; and Tea Pot Dome WD, Friant Unit, CVP, California: Contract to transfer title of 11 distribution systems to the respective districts. All title transfers subject to Congressional ratification.

Discontinued contract actions:

34. Banta-Carbona and The West Side IDs, CVP, California: Assignment of 5,000 acre-feet of each district's water service contract to the City of Tracy. The assignment will require approval of conversion of the districts' CVP irrigation water to M&I water. The districts are not pursuing this action at this time.

Completed contract actions:

2. Contractors from the American River Division, Buchanan Unit, Cross Valley Canal, Delta Division, Friant Division, Hidden Unit, Sacramento River Division, San Felipe Division, Shasta Division, Trinity River Division, and West San Joaquin Division, CVP, California: Early renewal of existing long-term contracts; long-term renewal of the interim renewal water service contracts expiring in 2001; water quantities for these contracts total in excess of 5.6M acre-feet. These contract actions will be accomplished through long-term renewal contracts pursuant to Public Law 102-575. Prior to completion of negotiation of long-term renewal contracts, existing interim renewal water service contracts may be renewed through successive interim renewal of contracts. Twenty-seven long-term water service contracts with quantities totaling 2.2M acre-feet were awarded to contractors in the Buchanan Unit, Friant Division, and Hidden Unit in the months of January and February 2001, with expiration dates of February 28, 2026.

5. U.S. Fish and Wildlife Service, California Department of Fish and Game, Grasslands WD, CVP, California: Water service contracts to provide water supplies for refuges and private wetlands within the CVP pursuant to Public Law 102-575 and Federal Reclamation Laws; quantity to be contracted for is approximately 450,000 acre-feet. Contracts have been executed.

Lower Colorado Region: Bureau of Reclamation, PO Box 61470 (Nevada Highway and Park Street), Boulder City, Nevada 89006-1470, telephone 702-293-8536.

New contract actions:

56. Gila River Indian Community, Arizona: Amend CAP distribution contract to incorporate the archeological repository named the Huhugam Heritage Center as part of the project works as defined in the contract.

57. Sonny Gowan, BCP, California: Request to lease up to 175 acre-feet of his PPR water to Moabi Regional Park.

58. Golden Shores Water Conservation District, BCP, Arizona: Amendment of water delivery contract to recognize that some private lands outside the District, but within its exterior boundaries, have been included within the District's boundaries.

59. Yuma County Water Users Association, Colorado River Front Work and Levee System, Arizona: Contract providing for operation, maintenance, and replacement of drainage facilities.

60. North Baja Pipeline, BCP, Arizona: Contract assignment of agricultural water from Jamar Produce Corporation to North Baja Pipeline.

61. Jessen Family Limited Partnership, BCP, Arizona: Partial contract assignment of agricultural water from Arlin Dulin to Jessen Family Limited Partnership.

Upper Colorado Region: Bureau of Reclamation, 125 South State Street, Room 6107, Salt Lake City, Utah 84138-1102, telephone 801-524-4419.

New contract actions:

16. Twining Water and Sanitation District, San Juan-Chama Project, New Mexico: Assignment of M&I water service contract for 15 acre-feet per year to the Village of Taos Ski Valley and conversion of contract from water service to a repayment contract.

17. Town of Taos, San Juan-Chama Project, New Mexico: Conversion of M&I water service contract for 400 acre-feet per year to a repayment contract.

18. Various contractors, San Juan-Chama Project, New Mexico: Three potential contracts among the United States, Middle Rio Grande Conservancy District, and the City of Albuquerque to implement terms of Agreed Order Resolving Plaintiff's Motion for Preliminary Injunction, dated August 2, 2000, and the Supplement dated October 5, 2000.

19. Mancos Water Conservancy District, Mancos Project, Colorado: Various carriage contracts with individual irrigators and the District to allow the carriage of up to 1,000 acre-feet of non-project irrigation water in project facilities under the authority of Public Law 106-549 for the Mancos Project.

20. San Juan Water Commission, New Mexico, Animas-La Plata Project, Colorado and New Mexico: Cost-sharing/repayment contract for up to 20,800 acre-feet per year of M&I water; contract terms to be consistent with the Colorado Ute Settlement Act Amendments of 2000 (Title III of Pub. L. 106-554).

21. State of Colorado, Animas-La Plata Project, Colorado and New Mexico: Cost-sharing/repayment contract for up to 10,460 acre-feet per year of M&I water; contract terms to be consistent with the Colorado Ute Settlement Act Amendments of 2000 (Title III of Pub. L. 106-554).

22. Animas-La Plata Water Conservancy District, Colorado, Animas-La Plata Project, Colorado and New Mexico: Cost-sharing/repayment contract for up to 5,200 acre-feet per year of M&I water; contract terms to be consistent with the Colorado Ute Settlement Act Amendments of 2000 (Title III of Pub. L. 106-554).

23. La Plata Conservancy District, New Mexico, Animas-La Plata Project, Colorado and New Mexico: Cost-sharing/repayment contract for up to 1,560 acre-feet per year of M&I water; contract terms to be consistent with the Colorado Ute Settlement Act Amendments of 2000 (Title III of Pub. L. 106-554).

Discontinued contract action:

4. The National Park Service, Colorado Water Conservation Board, Wayne N. Aspinall Unit, CRSP, Colorado: Contract to provide specific river flow patterns in the Gunnison River through the Black Canyon of the Gunnison National Monument.

Completed contract actions:

1. Individual irrigators, M&I, and miscellaneous water users, Initial Units, CRSP; Utah, Wyoming, Colorado, and New Mexico: Temporary (interim) water service contracts for surplus project water for irrigation or M&I use to provide up to 10,000 acre-feet of water annually for terms up to 10 years; long-term contracts for similar service for up to 1,000 acre-feet of water annually.

(e) Daggett County, Utah, Flaming Gorge Unit, CRSP, Utah: M&I water service contract covering payment for and delivery of 1,000 acre-feet of untreated water as required by Section 10(k)(2) of Public Law 105-326. This contract has been executed.

3. Carlsbad ID, Carlsbad Project, New Mexico: Contract to provide for repayment of the District's 15 percent share of proposed modifications to Avalon Dam under the SOD program. This contract has been executed.

6. Upper Gunnison River Water Conservancy District, Wayne N. Aspinall Unit, CRSP, Colorado: Substitute supply plan for the administration of the Gunnison River.

Great Plains Region: Bureau of Reclamation, PO Box 36900, Federal Building, 316 North 26th Street, Billings, Montana 59107-6900, telephone 406-247-7730.

New contract actions:

41. Milk River Project, Montana: City of Harlem water service contract expires July of 2002. Initiating negotiation for renewal of a water service contract for an annual supply of raw water for domestic use from the Milk River not to exceed 500 acre-feet. A 1-year interim contract may be issued to continue delivery of water from the Milk River below Fresno Reservoir until the necessary actions can be completed to renew the long-term contract.

42. Milk River Project, Montana: City of Chester water service contract expires January of 2002. Initiating negotiation for renewal of a water service contract for an annual supply of raw water for domestic use from the Milk River not to exceed 500 acre-feet. A 1-year interim contract may be issued to continue delivery of water from the Milk River below Fresno Reservoir until the necessary actions can be completed to renew the long-term contract.

43. City of Dickinson, P-SMBP, Dickinson Unit, North Dakota: Negotiate a long-term water service contract with the City of Dickinson or Park Board, for minor amounts of water from Dickinson Dam.

Modified contract actions:

2. Green Mountain Reservoir, Colorado-Big Thompson Project, Colorado: Water service contracts for irrigation and M&I; contracts for sale of water from the marketable yield to water users within the Colorado River Basin of western Colorado.

9. Angostura ID, Angostura Unit, P-SMBP, South Dakota: Another interim 3-year contract was executed on June 9, 2000, to provide for a continuing water supply and allow adequate time for completion of the Environmental Impact Statement for long-term contract renewal. A BON for a long-term contract renewal has been approved by the Commissioner's Office.

10. Cities of Loveland and Berthoud, Colorado, Colorado-Big Thompson Project, Colorado: Long-term contracts for conveyance of non-project M&I water through Colorado-Big Thompson Project facilities.

24. City of Fort Collins, Colorado-Big Thompson Project, Colorado: Long-term contracts for conveyance and storage of non-project M&I water through Colorado-Big Thompson Project facilities.

25. Green Mountain Project, Colorado: Historic user pool surplus water for municipal recreation. This agreement is with the City of Grand Junction, City of Fruita, and the Town of Palisade.

38. Helena Valley Unit, P-SMBP, Montana: Initiating negotiations for renewal of Part A of the A/B contract with Helena Valley ID which expires in 2004.

Completed contract actions:

26. Keith Bower (Individual), P-SMBP, Boysen Unit, Wyoming: Contract for up to 500 acre-feet of irrigation water to service 144 acres.

27. Canyon Limited Liability (Individual), P-SMBP, Boysen Unit, Wyoming: Contract for up to 16 acre-feet of supplemental irrigation water to service 4 acres.

28. L.U. Sheep Company (Individual), P-SMBP, Boysen Unit, Wyoming: Contract for up to 60 acre-feet of irrigation water to service 180 acres.

29. Northern Colorado Water Conservancy District, Colorado-Big Thompson Project, Colorado: Acting by and through the Pleasant Valley Pipeline Project Water Activity Enterprise, beginning discussions and draft BON for a long-term contract for conveyance of non-project water through Colorado-Big Thompson Project facilities.

31. North Fork Valley Ditch (Individual), Shoshone Project, Buffalo Bill Dam, Wyoming: Exchange water service contract not to exceed 1,000 acre-feet of water to service 855 acres.

33. Denise J. Evans (Individual), Shoshone Project, Buffalo Bill Dam, Wyoming: Exchange water service contract not to exceed 100 acre-feet of water to service 48.5 acres.

Dated: April 17, 2001.
Elizabeth Cordova-Harrison,
Deputy Director, Office of Policy.

[FR Doc. 01-10483 Filed 4-24-01; 8:45 am]

BILLING CODE 4310-MN-P